DEPARTMENT OF TRANSPORTATION

Federal Aviation Administration

14 CFR Part 39

[Docket No. 2000-NM-124-AD]

RIN 2120-AA64

Airworthiness Directives; Airbus Model A310 and Model A300 B4-600, B4-600R, C4-605R Variant F, and F4-600R (Collectively Called A300-600) Series Airplanes

AGENCY: Federal Aviation Administration, DOT.

ACTION: Proposed rule; withdrawal.

SUMMARY: This action withdraws a notice of proposed rulemaking (NPRM) that proposed a new airworthiness directive (AD), applicable to all Airbus Model A310 and A300-600 series airplanes. That action would have required revising the airplane flight manual (AFM) to provide the flightcrew with procedures to maintain airplane controllability in the event of an in-flight thrust reverser deployment. Since the issuance of the NPRM, the Federal Aviation Administration (FAA) has issued another AD to require revising the AFM to contain the text of the AFM revisions that the NPRM would have required to be inserted into the AFM. Accordingly, the proposed rule is withdrawn.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to add a new airworthiness directive (AD); applicable to all Airbus Model A310 and A300 B4-600, B4-600R, C4-605R Variant F, and F4-600R (collectively called A300-600) series airplanes; was published in the Federal Register as a Notice of Proposed Rulemaking (NPRM) on November 28, 2000 (65 FR 70821). The proposed rule would have required revising the Airplane Flight Manual (AFM) to provide the flightcrew with procedures to maintain airplane controllability in the event of an in-flight thrust reverser deployment. That action was prompted by a determination that existing procedures specified in the AFM for addressing the in-flight deployment of a thrust reverser could result in reduced controllability of the airplane. The proposed actions were intended to provide the flightcrew with procedures to maintain airplane controllability in the event of an in-flight deployment of the thrust reverser.

Actions That Occurred Since the NPRM Was Issued

Since the issuance of that NPRM, the FAA has issued AD 2004-03-10, amendment 39-13454 (69 FR 5926, February 9, 2004). That AD applies to all Airbus Model A310 and A300-600 series airplanes, and requires revising the AFM to provide the flightcrew with procedures to maintain controllability of the airplane in the event of an in-flight deployment of the thrust reverser. That AD contains the text of the AFM revisions that the NPRM would have required to be inserted into the AFM.

FAA's Conclusions

Upon further consideration, the FAA has determined that it is inappropriate to have two ADs requiring the same action. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2000-NM-124-AD, published in the Federal Register on November 28, 2000 (65 FR 70821), is withdrawn.

Issued in Renton, Washington, on May 5, 2004.
Ali Bahrami,
Acting Manager, Transport Airplane Directorate, Aircraft Certification Service.

[FR Doc. 04-11042 Filed 5-14-04; 8:45 am]

BILLING CODE 4910-13-P